GENERAL SERVICES ADMINISTRATION

[Notice-FTR-2014-05; Docket No. 2014-0002; Sequence 21]

Federal Travel Regulation; Designation of Agency Senior Travel Officials

AGENCY: Office of Government-wide Policy (OGP), General Services Administration (GSA).

ACTION: Notice of Federal Travel Regulation (FTR) Bulletin 14-08, Designation of Agency Senior Travel Officials.

SUMMARY: GSA's Office of Government-wide Policy is strongly encouraging agencies to notify GSA of the name and contact information of the employee selected to be responsible on an agency-wide basis for carrying out the directives in Section 3 of Executive Order (E.O.) 13589, “Promoting Efficient Spending,” so s/he can be included in future meetings of agency travel officials. This person may be referred to as the Senior Travel Official (STO).

DATES: June 4, 2014.

FOR FURTHER INFORMATION CONTACT: For clarification of content, please contact Ms. Jill Denning, Office of Government-wide Policy, Office of Asset and Transportation Management, at 202-208-7642, or by email at travelpolicy@gsa.gov. Please cite Notice of FTR Bulletin 14-08.

SUPPLEMENTARY INFORMATION: Agencies carrying out their various missions must do so in a fiscally responsible manner to protect the interests of taxpayers. The President issued Executive Order (E.O.) 13589, “Promoting Efficient Spending,” on November 9, 2011, to achieve this goal by charging agencies with aggressively cutting waste and promoting efficient and effective spending in administrative areas that are necessary to conducting official business. In Section 3, the E.O. identified travel as one area of opportunity for cost savings, and provided in subsection 3(b) that agencies, agency components, and offices of inspectors general should designate a senior-level official to be responsible for developing and implementing policies and controls to ensure efficient spending for travel and conference-related activities.

Dated: May 29, 2014.
Carolyn Austin-Diggs,
Acting Deputy Associate Administrator, Office of Asset and Transportation Management, Office of Government-wide Policy.

[FR Doc. 2014-12979 Filed 6-3-14; 8:45 am]

BILLING CODE 6820-14-P